DEPARTMENT OF TRANSPORTATION

Surface Transportation Board

[STB Finance Docket No. 34146]

Chicago Heights Switching Company—Operation Exemption—Bulkmatic Railroad Corporation

Chicago Heights Switching Company (CHSC), a noncarrier, has filed a verified notice of exemption under 49 CFR 1150.31 to operate, pursuant to an operating agreement with Bulkmatic Railroad Corporation (BRC), approximately 3.9 miles of railroad right-of-way and trackage known as Bulkmatic Distribution Center, at Chicago Heights, IL (line).¹

¹ BRC has subleased the line from Bulkmatic Transport Company. See Bulkmatic Railroad Corporation—Acquisition Exemption—Bulkmatic Transport Company, STB Finance Docket No. 34145 (STB served Jan. 15, 2002).

The transaction was scheduled to be consummated on January 1, 2002.² This transaction is related to STB Finance Docket No. 34147, Paula J. Mudge-Gibson and Don L. Gibson—Continuance in Control Exemption—Chicago Heights Switching Company, wherein Paula J. Mudge-Gibson and Don L. Gibson have filed a verified notice of exemption to continue in control of CHSC upon its becoming a Class III rail carrier.

² On December 26, 2001, a petition to stay the effective dates of the exemptions in both STB Finance Docket No. 34146 and STB Finance Docket No. 34145 was filed by Joseph C. Szabo, for and on behalf of the United Transportation Union-Illinois Legislative Board. By decision served December 27, 2001, the petition for stay was denied.

If the notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34146, must be filed with the Surface Transportation Board, Office of the Secretary, Case Control Unit, 1925 K Street, NW., Washington, DC 20423-0001. In addition, a copy of each pleading must be served on Thomas F. McFarland, Esq., Thomas F. McFarland, P.C., 208 South LaSalle Street, Suite 1890, Chicago, IL 60604-1194.

Board decisions and notices are available on our website at www.stb.dot.gov.

Decided: January 4, 2002.
By the Board, David M. Konschnik, Director, Office of Proceedings.
Vernon A. Williams,
Secretary.

[FR Doc. 02-762 Filed 1-14-02; 8:45 am]

BILLING CODE 4915-00-P